OFFICE OF THE UNITED STATES TRADE REPRESENTATIVE

Fiscal Year 2023 Allocation of Additional Tariff-Rate Quota Volume for Raw Cane Sugar

AGENCY: Office of the United States Trade Representative.

ACTION: Notice.

SUMMARY: The Office of the United States Trade Representative (USTR) is providing notice of the allocations of additional Fiscal Year (FY) 2023 in-quota quantities of the World Trade Organization (WTO) tariff-rate quota (TRQ) for imported raw cane sugar.

DATES: The changes made by this notice are applicable as of July 19, 2023.

FOR FURTHER INFORMATION CONTACT: Erin Nicholson, Office of Agricultural Affairs, at 202-395-9419, or Erin.H.Nicholson@ustr.eop.gov.

SUPPLEMENTARY INFORMATION: Pursuant to Additional U.S. Note 5 to Chapter 17 of the Harmonized Tariff Schedule of the United States (HTSUS), the United States maintains WTO TRQs for imports of raw cane and refined sugar. Section 404(d)(3) of the Uruguay Round Agreements Act (19 U.S.C. 3601(d)(3)) authorizes the President to allocate the in-quota quantity of a TRQ for any agricultural product among supplying countries or customs areas. The President delegated this authority to the U.S. Trade Representative under Presidential Proclamations 6763 (60 FR 1007) and 7235 (64 FR 55611).

On July 10, 2023, the U.S. Department of Agriculture announced an additional in-quota quantity of the TRQ for raw cane sugar for the remainder of FY2023 (ending September 30, 2023) in the amount of 125,000 metric tons raw value (MTRV) (conversion factor: 1 metric ton raw value = 1.10231125 short tons raw value). This quantity is in addition to the minimum amount to which the United States is committed under the World Trade Organization Agreement (1,117,195 MTRV). USTR is allocating this additional quantity of 125,000 MTRV to the following countries in the amounts specified below:

Country | FY2023 raw sugar TRQ increase allocations (MTRV)
Australia | 19,356
Belize | 2,565
Bolivia | 1,632
Brazil | 33,815
Colombia | 5,597
Costa Rica | 3,498
Ecuador | 2,565
El Salvador | 6,063
Eswatini (Swaziland) | 3,731
Fiji | 2,099
Guatemala | 11,194
Honduras | 2,332
India | 700
Mauritius | 2,799
Mozambique | 3,032
Panama | 3,032
Peru | 9,562
South Africa | 5,364
Thailand | 3,265
Zimbabwe | 2,799

The allocations of the in-quota quantities of the raw cane sugar TRQ to countries that are net importers of sugar are conditioned on receipt of the appropriate verifications of origin. Certificates of quota eligibility must accompany imports from any country for which an allocation has been provided.

Douglas McKalip,
Chief Agricultural Negotiator, Office of the United States Trade Representative.

[FR Doc. 2023-15293 Filed 7-18-23; 8:45 am]

BILLING CODE 3390-F3-P